DEPARTMENT OF JUSTICE

Antitrust Division

Notice Pursuant to the National Cooperative Research and Production Act of 1993—3-A Sanitary Standards, Inc.

Notice is hereby given that, on September 14, 2004, pursuant to section 6(a) of the National Cooperative Research and Production Act of 1993, 15 U.S.C. 4301 et seq. (“the Act”), 3-A Sanitary Standards, Inc. (“3-A SSI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: 3-A Sanitary Standards, Inc., McLean, VA. The nature and scope of 3-A SSI's standards development activities are: The development, maintenance and publishing of standards for the sanitary design, fabrication, installation and operation of equipment and machinery in the following areas: Vessels; fillers; valves and fittings; pumps and mixers; heat exchangers; conveyors and feeders; instruments; concentrating equipment; farm/raw milk; cheese and butter equipment; process and cleaning systems; plant support systems; materials and materials testing; and Active Pharmaceutical Ingredients.

Additional information may be obtained from Timothy R. Rugh, CAE, Executive Director of 3-A Sanitary Standards, Inc., at (703) 790-0295.

Dorothy B. Fountain,
Deputy Director of Operations, Antitrust Division.

[FR Doc. 04-24567 Filed 11-2-04; 8:45 am]

BILLING CODE 4410-11-M